DEPARTMENT OF THE INTERIOR

Fish and Wildlife Service

Aquatic Nuisance Species Task Force Northeast Regional Panel Meeting

AGENCY: Fish and Wildlife Service, Interior.

ACTION: Notice of meeting.

SUMMARY: This notice announces meeting of the Aquatic Nuisance Species (ANS) Task Force Northeast Regional Panel. The meeting topics are identified in the supplementary information.

DATES: The Northeast Regional Panel will meet from 12 p.m. to 5:30 p.m. on Monday, December 16, 2002, and 8:30 a.m. to 3 p.m., Tuesday, December 17, 2002.

ADDRESSES: The Northeast Regional Panel meeting will be held at the Northeast Regional Office of the U.S. Fish and Wildlife Service, 300 Westgate Center Drive, Hadley, MA 01035-9589. Phone 413-253-8404.

FOR FURTHER INFORMATION CONTACT: Susan Snow-Cotter, 617-626-1202 or Sharon Gross, Executive Secretary, Aquatic Nuisance Species Task Force at 703-358-2308.

SUPPLEMENTARY INFORMATION: Pursuant to section 10(a)(2) of the Federal Advisory Committee Act (5 U.S.C. App.I), this notice announces a meeting of the Aquatic Nuisance Species Task Force Northeast Regional Panel. The Task Force was established by the Nonindigenous Aquatic Nuisance Prevention and Control Act of 1990. The Northeast Regional Panel was established on July 25, 2001, to advise and make recommendations to the Aquatic Nuisance Species Task Force on issues relating to the Northeast region of the United States. Geographically, the Northeast region is defined to include the jurisdictions of the states of Maine, New Hampshire, Vermont, Massachusetts, Rhode Island, Connecticut, and New York. The Northeast Regional Panel will discuss several topics at this meeting including: Updates from provinces and states; review of reports from subcommittees on Communication, Education, and Outreach, Policy and Legislation, and Science Technology; discussion on the development of a rapid response system, a ballast water regional management plan, and data management; updates from the Aquatic Nuisance Species Task Force and National Invasive Species Council on national issues, reauthorization of the National Aquatic Invasive Species Act; updates on the development of State ANS Management Plans; and other topics.

Minutes of the meeting will be maintained by the Executive Secretary, Aquatic Nuisance Species Task Force, Suite 810, 4401 North Fairfax Drive, Arlington, Virginia 22203-1622, and will be available for public inspection during regular business hours, Monday through Friday.

Dated: November 15, 2002.
William E. Knapp,
Acting Co-Chair, Aquatic Nuisance Species Task Force, Deputy Assistant Director-Fisheries & Habitat Conservation.

[FR Doc. 02-30010 Filed 11-26-02; 8:45 am]

BILLING CODE 4310-55-M